DEPARTMENT OF THE INTERIOR

Fish and Wildlife Service

[FWS-R4-ES-2016-N152]; [FXES11130400000C2-167-FF04E00000]

Endangered and Threatened Wildlife and Plants; Technical/Agency Draft Recovery Plan for the Chucky Madtom

AGENCY: Fish and Wildlife Service, Interior.

ACTION: Notice of availability and request for public comment.

SUMMARY: We, the Fish and Wildlife Service (Service), announce the availability of the technical/agency draft recovery plan for the endangered chucky madtom, a fish. The draft recovery plan includes specific recovery objectives and criteria that must be met in order for us to reclassify this species to threatened status under the Endangered Species Act of 1973, as amended (Act). We request review and comment on this draft recovery plan from local, State, and Federal agencies, and the public.

DATES: In order to be considered, comments on the draft recovery plan must be received on or before January 3, 2017.

ADDRESSES: Reviewing documents: If you wish to review this technical/agency draft recovery plan, you may obtain a copy by contacting Mary E. Jennings, Field Supervisor, U.S. Fish and Wildlife Service, Tennessee Ecological Services Field Office, 446 Neal Street, Cookeville, TN 38501; tel. 931-528-6481; or by visiting the Service's Tennessee Field Office Web site at http://www.fws.gov/cookeville.

Submitting comments: If you wish to comment, you may submit your comments by one of the following methods:

1. You may submit written comments and materials to us, at the above address.

2. You may hand-deliver written comments to our Tennessee Field Office, at the above address, or fax them to 931-528-7075.

3. You may send comments by email to mary_e_jennings@fws.gov. Please include “Chucky Madtom Draft Recovery Plan Comments” on the subject line.

For additional information about submitting comments, see the “Request for Public Comments” section below.

FOR FURTHER INFORMATION CONTACT: Mary E. Jennings (see ADDRESSES).

SUPPLEMENTARY INFORMATION:

Background

We listed the chucky madtom (Noturus crypticus; a small fish) as endangered under the Act (16 U.S.C. 1531 et seq.) on August 9, 2011 (76 FR 48722). The chucky madtom grows to 2.9 inches (7.4 centimeters) total length and is endemic to the upper Tennessee River system in Tennessee. This fish is historically known from two creek systems, but only currently persists in Little Chucky Creek where only 14 individuals have ever been collected. All 14 have been collected at this site since 1991; however, none have been captured since 2004.

Chucky madtoms are currently known from a single tributary to the Nolichucky River in stream sections 5 to 7 meters (16 to 23 feet) wide in riffle and swim through streams lined by water willow (Justicia americana) beds with slow-to-moderate current over pea-sized gravel, cobble, or slab-rock substrates. In addition to habitat degradation, threats to the species include extreme curtailment of habitat and range, small population size and low numbers, inability to offset mortality with natural reproduction and recruitment, and their resulting vulnerability to natural or human induced catastrophic events (e.g., droughts, pollution spills, etc.). Surviving populations are threatened by water quality and habitat deterioration. Another potential threat is introduced crayfishes (Orconectes sp.), which are thought to compete with chucky madtoms for access to the little habitat that is available in Little Chucky Creek.

Approximately 20 river miles (32 river kilometers) of stream channels in Little Chucky Creek, Greene County, Tennessee, have been designated as critical habitat for the chucky madtom (77 FR 63604). This fish has a recovery priority number of 5 which indicates the species faces a high degree of threat, but has a low recovery potential.

Restoring an endangered or threatened animal or plant to the point where it is again a secure, self-sustaining member of its ecosystem is a primary goal of our endangered species program. To help guide the recovery effort, we prepare recovery plans for most listed species. Recovery plans describe actions considered necessary for conservation of the species, establish criteria for downlisting or delisting, and estimate time and cost for implementing recovery measures.

The Act requires the development of recovery plans for listed species, unless such a plan would not promote the conservation of a particular species. Section 4(f) of the Act requires us to provide public notice and an opportunity for public review and comment during recovery plan development. We will consider all information presented during a public comment period prior to approval of each new or revised recovery plan. We and other Federal agencies will take these comments into account in the course of implementing approved recovery plans.

Recovery Plan Components

The recovery objectives are to work to reduce threats in order to downlist the chucky madtom to threatened status. Defining reasonable delisting criteria is not possible at this time given the current low number of individuals, extreme curtailment of the species' range, extensive modification and fragment of habitat with the species' historical range, lack of information about the species' biology, and magnitude of other existing threats. Therefore, this recovery plan establishes only downlisting criteria for this catfish. Criteria will be reevaluated as new information becomes available.

Downlisting of chucky madtom will be considered when:

1. Suitable instream and riparian habitat, flows, and water quality for chucky madtom as defined by the best available science (to be refined by recovery actions), exist in occupied streams (addresses Factor A).

2. Population studies show that a viable chucky madtom population in Little Chucky Creek and at least 1 other stream (Dunn Creek, Jackson Branch; e.g., the only known stream representing the historical range of the species) are naturally recruiting (consisting of two year classes in the fall months) and sustainable over a period of 20-30 years (10 generations) (addresses Factors A, C, and E).

Request for Public Comments

We request written comments on the draft recovery plan. We will consider all comments we receive by the date specified in DATES prior to final approval of the plan.

Public Availability of Comments

Before including your address, phone number, email address, or other personal identifying information in your comment, you should be aware that your entire comment—including your personal identifying information—may be made publicly available at any time. While you can ask us in your comment to withhold your personal identifying information from public review, we cannot guarantee that we will be able to do so.

Authority

The authority for this action is section 4(f) of the Endangered Species Act, 16 U.S.C. 1533(f).

Dated: September 6, 2016.
Mike Oetker,
Acting Regional Director, Southeast Region.

[FR Doc. 2016-26330 Filed 10-31-16; 8:45 am]

BILLING CODE 4310-55-P